DEPARTMENT OF ENERGY

Federal Energy Regulatory Commission

18 CFR Part 42

[Docket No. RM06-8-000]

Long-Term Firm Transmission Rights in Organized Electricity Markets; Correction

AGENCY: Federal Energy Regulatory Commission, DOE.

ACTION: Final rule; correction.

SUMMARY: This document corrects a compliance deadline error and a typographical error in a final rule that the Federal Energy Regulatory Commission published in the Federal Register on August 1, 2006. That action amended the Commission's regulations to require transmission organizations that are public utilities with organized electricity markets to make available long-term firm trnamission rights that satisfy certain guidelines adopted in the Final Rule.

DATES: This correction is effective August 31, 2006.

FOR FURTHER INFORMATION CONTACT: Jeffery Dennis (Legal Information), Office of the General Counsel, Federal Energy Regulatory Commission at (202) 502-6027.

SUPPLEMENTARY INFORMATION: In FR Document 06-6494, published August 1, 2006 (71 FR 43564), make the following correction to the date for transmission organizations to file compliance proposals and to the word “what”, changing it to “that”.

On page 43616, column 3, paragraph 490, the second sentence is corrected to read: “We clarify that we expect transmission organizations subject to this Final Rule to file compliance proposals on or before January 29, 2007”.

Magalie R. Salas,
Secretary.

[FR Doc. E6-13155 Filed 8-10-06; 8:45 am]

BILLING CODE 6717-01-P